DEPARTMENT OF HOMELAND SECURITY

Coast Guard

33 CFR Part 117

Drawbridge Operation Regulations; Columbia River, OR

CFR Correction

In Title 33 of the Code of Federal Regulations, Parts 1 to 124, revised as of July 1, 2010, on page 624, in § 117.869, paragraph (d) is removed.

[FR Doc. 2011-7441 Filed 3-28-11; 8:45 am]

BILLING CODE 1505-01-D